DEPARTMENT OF COMMERCE

International Trade Administration

[A-122-822]

Certain Corrosion-Resistant Carbon Steel Flat Products from Canada: Rescission, in Part, of Antidumping Duty Administrative Review

AGENCY: Import Administration, International Trade Administration, U.S. Department of Commerce.

ACTION: Notice.

SUMMARY: In response to a timely request from petitioners, Bethlehem Steel Corp., National Steel Corp., and United States Steel Corp., the Department of Commerce (the Department) initiated an administrative review of Stelco Inc. (Stelco) and Dofasco Inc. (Dofasco) under the antidumping duty order on certain corrosion-resistant carbon steel flat products (CORE) from Canada covering the period August 1, 2001 through July 31, 2002. See Initiation of Antidumping and Countervailing Duty Administrative Reviews, Requests for Revocation in Part and Deferral of Administrative Reviews, 67 FR 60210 (September 25, 2002). Petitioners, which were the only parties to request this review, have now withdrawn their request for an administrative review with respect to Stelco. Accordingly, the Department is rescinding, in part, its review of CORE for Stelco in accordance with section 351.213(d)(1) of the Department's regulations.

EFFECTIVE DATE: July 11, 2003.

FOR FURTHER INFORMATION CONTACT: Christian Hughes or Elfi Blum-Page, AD/CVD Enforcement Group III, Office 7, Import Administration, International Trade Administration, U.S. Department of Commerce, 14th Street and Constitution Avenue, N.W., Washington D.C. 20230; telephone (202) 482-0190 or (202) 482-0197, respectively.

SUPPLEMENTARY INFORMATION:

Background

The Department published in the Federal Register the antidumping duty order on CORE from Canada on August 19, 1993. See Antidumping Duty Orders: Certain Corrosion-Resistant Carbon Steel Flat Products and Certain Cut-to-Length Carbon Steel Plate from Canada, 58 FR 44162 (August 19, 1993). On August 6, 2002, the Department published an opportunity to request administrative review. See Antidumping or Countervailing Duty Order, Finding, or Suspended Investigation; Opportunity To Request Administrative Review, 67 FR 50856 (August 6, 2002). On August 30, 2002, the Department received a timely request from petitioners to conduct an administrative review pursuant to section 351.213(b) of the Department's regulations. On September 25, 2002, the Department initiated the administrative review covering the period August 1, 2001 to July 31, 2002, for producers Stelco and Dofasco. See Initiation of Antidumping and Countervailing Duty Administrative Reviews, Requests for Revocation in Part and Deferral of Administrative Reviews, 67 FR 60210 (September 25, 2002). On April 24, 2003, petitioners withdrew their review request for this period with respect to Stelco in accordance with section 351.213(d)(1) of the Department's regulations. On May 1, 2003, Stelco filed comments in opposition to petitioners' withdrawal request, and requested the Department to continue the review.

Rescission, in Part, of the Antidumping Duty Administrative Review of CORE

The Department is rescinding the antidumping duty administrative review of Stelco, covering the period August 1, 2001 through July 31, 2002, in accordance with section 351.213(d)(1) of the Department's regulations. Although petitioners' withdrawal request for this review was not within the normal time limit as prescribed in section 351.213(d)(1) of the Department's regulations, we find that, under the circumstances of this review, it is appropriate to accept the withdrawal request and rescind the review with respect to Stelco. According to section 351.213(d)(1) of the Department's regulations, the Department will rescind an administrative review “if a party that requested the review withdraws the request within 90 days of the date of publication of notice of initiation of the requested review.” The regulations further provide that the Secretary “may extend this time limit if the Secretary decides that it is reasonable to do so.” In this case, petitioners' withdrawal request was not within the 90-day time limit. However, the Department has determined that rescinding the review is appropriate. Continuing this review would only require Stelco, the domestic industry and the Department to expend time and resources on a review in which the only parties that requested the review are no longer interested. The Department has not released supplemental questionnaires with respect to Stelco, nor conducted verification. Therefore, the Department does not believe the administrative review has proceeded to a point at which it would be “unreasonable” to rescind the review. Furthermore, there are no overarching policy issues which would warrant continuing with this review.

The Department, therefore, has determined that it is reasonable to extend the 90-day time limit and to rescind, in part, the administrative review of CORE for the period August 1, 2001 through July 31, 2002 with respect to Stelco. (For a full discussion of the comments filed with respect to whether to rescind this review, see Memorandum to the File from Christian Hughes, Analyst, Re: Antidumping Duty Order on Certain Corrosion-Resistant Carbon Steel Flat Products from Canada: 08/01/01- 07/31/02; Rescission, in Part, of the Ninth Administrative Review with Respect to Stelco, Inc., July 3, 2003.) The Department will issue appropriate assessment instructions directly to the U.S. Bureau of Customs and Border Protection (BCBP) within 15 days of publication of this notice. The Department will direct the BCBP to assess antidumping duties for this company at the cash deposit rate in effect on the date of entry for entries during the period August 1, 2001 through July 31, 2002.

Notification to Parties

This notice serves as a reminder to importers of their responsibility under section 351.402(f) of the Department's regulations to file a certificate regarding the reimbursement of antidumping duties prior to liquidation of the relevant entries during this period of time. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return or destruction of APO materials or conversion to judicial protective order is hereby requested. Failure to comply with the regulations and terms of an APO is a sanctionable violation.

This determination and notice are issued and published in accordance with sections 351.213(d)(4) and sections 751(a)(2)(c) and 777(I)(1) of the Tariff Act of 1930, as amended.

Dated: July 3, 2003.
Joseph A. Spetrini,
Acting Assistant Secretary for Grant Aldonas, Under Secretary.

[FR Doc. 03-17626 Filed 7-10-03; 8:45 am]

BILLING CODE 3510-DS-S